ENVIRONMENTAL PROTECTION AGENCY

[OPP-2004-0281; FRL-7705-6]

Pesticides and National Strategies for Health Care Providers; Notice of Funds Availability; Correction

AGENCY: Environmental Protection Agency (EPA).

ACTION: Notice; correction.

SUMMARY: EPA issued a notice in the Federal Register of February 9, 2005, announcing that EPA's Office of Pesticide Programs (OPP) is soliciting proposals to provide financial assistance to continue an effort to improve the training of health care providers in recognition, diagnosis, treatment, and prevention of pesticide poisonings among those who work with pesticides. This document is being issued to correct a date error.

FOR FURTHER INFORMATION CONTACT: Allie Fields, Field and External Affairs Division (7506C), Office of Pesticide Programs, Environmental Protection Agency, 1200 Pennsylvania Ave., NW., Washington, DC 20460-0001; telephone number (703) 305-7666; fax number: (703) 308-2962; e-mail address: fields.allie@epa.gov.

SUPPLEMENTARY INFORMATION:

I. General Information

A. Does this Action Apply to Me?

The Agency included in the Federal Register notice of February 9, 2005, a list of those who may be potentially affected by this action. If you have questions regarding the applicability of this action to a particular entity, consult the person listed under FOR FURTHER INFORMATION CONTACT.

B. How Can I get Copies of this Document and Other Related Information?

1. Docket. EPA has established an official public docket for this under docket identification (ID) number OPP-2004-0281. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listing at http://www.epa.gov/fedrgstr/.

An electronic version of the public docket is available through EPA's electronic public docket and comment system, EPA Dockets. You may use EPA dockets at http://www.epa.gov/edocket/ to submit or view public comments, to access the index listing of the contents of the official pulic docket, an to access those documents in the public docket that are available electronically. Once in the system, select “search,” then key in the appropriate docket ID number.

II. What Does this Correction Do?

In the Federal Register of February 9, 2005 (70 FR 6864) (FRL-7681-1), EPA published a notice soliciting proposals to continue an effort to improve the training of health care providers in recognition, diagnosis, treatment, and prevention of pesticide poisonings among those who work with pesticides. The document listed an incorrect date.

The document is corrected as follows:

1. On page 6864, second column, under “DATES”, second line, change “March 28, 2005” to read “April 30, 2005”.

2. On page 6867, second column, under paragraph “3. Submission dates and times”, sixth line, change “March 28, 2005” to read “April 30, 2005”.

List of Subjects

Environmental protection, Grants, Pesticides, Training.

Dated: March 11, 2005.
Marty Monell,
Acting Director, Office of Pesticide Programs.

[FR Doc. 05-6182 Filed 3-29-05; 8:45 am]

BILLING CODE 6560-50-S